DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before August 11, 2008. Address written comments to Statutory Import Programs Staff, Room 2104, U.S. Department of Commerce, Washington, D.C. 20230. Applications may be examined between 8:30 a.m. and 5 p.m. at the U.S. Department of Commerce in Room 2104.

Docket Number: 08-033. Applicant: University of Connecticut, 97 N. Eagleville Rd., Storrs, CT 06269-3136. Instrument: Electron Microscope, Model Tecnai G2 Spirit TWIN. Manufacturer: FEI Company, Czech Republic. Intended Use: The instrument is intended to be used to perform low dose and/or cryogenic imaging of soft matter and other beam-sensitive materials. It will also be used in the research of polymeric materials, gels, biomaterials and novel catalytic materials. Further, the instrument will have the ability to observe the mechanical response of nanomaterials, piezoceramics and other materials. Application accepted by Commissioner of Customs: June 25, 2008.

Docket Number: 08-034. Applicant: Harvard Medical School, 240 Longwood Avenue, Boston, MA 02115. Instrument: Electron Microscope, Model Tecnai G2 F20. Manufacturer: FEI Company, the Netherlands. Intended Use: The instrument is intended to be used to seek high resolution information from certain biological specimens such as membrane proteins, viruses, specialized sub-cellular organelles such as membrane-traffic intermediates and kinetochores. This information will be used to determine high resolution structures of sub-cellular assemblies in order to understand such fundamental cellular processes as mitosis, transport of water and ions across membranes and entry of viruses and other pathogens into cells. Application accepted by Commissioner of Customs: July 9, 2008.

Date: July 16, 2008
Faye Robinson,
Director, Statutory Import Programs Staff.

[FR Doc. E8-16763 Filed 7-21-08; 8:45 am]

BILLING CODE 3510-DS-S